DEPARTMENT OF DEFENSE

Office of the Secretary

[Docket ID DOD-2017-OS-0035]

Proposed Collection; Comment Request

AGENCY: Office of the Under Secretary of Defense for Acquisition, Technology and Logistics, DoD.

ACTION: Notice.

SUMMARY: In compliance with the Paperwork Reduction Act of 1995, the Office of the Under Secretary of Defense for Acquisition, Technology and Logistics announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 25, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Armed Forces Pest Management Board (AFPMB), Contingency Liaison Office, ATTN: Major Leah Chapman, 2460 Linden Lane, Bldg. 172, Silver Spring, MD 20910, or call the AFPMB Contingency Liaison Office at 301-295-7476.

SUPPLEMENTARY INFORMATION: Title; Associated Form; and OMB Number: Pre-embarkation Certificate of Disinsection, DD Form X773; OMB Control Number 0704-XXXX.

Needs and Uses: The information collection requirement is necessary to provide proof of aircraft disinsection to foreign countries that require it, before cargo and aircrew will be allowed to dis-embark in those countries.

Affected Public: Individuals or households.

Annual Burden Hours: 166.67.

Number of Respondents: 1,000.

Responses per Respondent: 1.

Annual Responses: 1,000.

Average Burden per Response: 10 minutes.

Frequency: On occasion.

Respondents are DoD-contracted pest managers. These pest management professionals would be required to fill out the certificate of disinsection, log it in the appropriate database, and provide a copy to the aircrew. Aircraft disinsection (spraying with insecticide to kill all insects aboard) is currently required in 14 countries for arriving military aircraft. Most of those countries also require documentation proving that the aircraft was disinsected, per their instructions in the Foreign Clearance Guide (FCG). The burden for this collection is calculated based on the number of times U.S. aircraft currently enter countries with the requirement to produce a certificate of disinsection. The certificates used, are unique to each of the countries with the requirement. They are not collections managed by the U.S. Government. The Armed Forces Pest Management Board (AFPMB) published Technical Guide (TG) for pest managers and aircrew to follow. This guide standardizes our requirements for disinsection in the FCG for all countries our aircraft enter. One such requirement is the use of a standardized form by all DoD that satisfies the documentation requirements of disinsection for these 14 countries.

Dated: July 21, 2017.
Aaron Siegel,
Alternate OSD Federal Register Liaison Officer, Department of Defense.

[FR Doc. 2017-15664 Filed 7-25-17; 8:45 am]

BILLING CODE 5001-06-P